FEDERAL COMMUNICATIONS COMMISSION

47 CFR Part 54

[WC Docket Nos. 13-184 and 10-90; FCC 14-189]

Modernizing the E-rate Program for Schools and Libraries

AGENCY: Federal Communications Commission.

ACTION: Final rule; announcement of effective date.

SUMMARY: In this document, the Commission announces that the Office of Management and Budget (OMB) has approved, for a period of six months, the information collection associated with the Commission's Second E-rate Modernization Report and Order and Order on Reconsideration (Second E-rate Modernization Order). This notice is consistent with the (Second E-rate Modernization Order, which stated that the Commission would publish a document in the Federal Register announcing the effective date of those rules.

DATES: 47 CFR 54.503(c)(1) published at 80 FR 5961, February 4, 2015, is effective June 30, 2015.

FOR FURTHER INFORMATION CONTACT: James Bachtell, Wireline Competition Bureau at (202) 418-2694 or TTY (202) 418-0484.

SUPPLEMENTARY INFORMATION: This document announces that, on June 22, 2015, OMB approved, for a period of six months, the information collection requirements contained in the Commission's Second E-rate Modernization Order, FCC 14-189, published at 80 FR 5961, February 4, 2015. The OMB Control Number is 3060-0806. The Commission publishes this notice as an announcement of the effective date of the rule § 54.503(c)(1).

Synopsis

As required by the Paperwork Reduction Act of 1995 (44 U.S.C. 3507), the FCC is notifying the public that it received OMB approval on June 22, 2015, for the information collection requirements contained in the Commission's rules at 47 CFR 54.503(c)(1).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0806.

The foregoing notice is required by the Paperwork Reduction Act of 1995, Public Law 104-13, October 1, 1995, and 44 U.S.C. 3507.

The total annual reporting burdens and costs for the respondents are as follows:

OMB Control Number: 3060-0806.

OMB Approval Date: June 22, 2015.

OMB Expiration Date: December 31, 2015.

Title: Universal Service-Schools and Libraries Universal Service Program, FCC Forms 470 and 471.

Form Number: FCC Forms 470 and 471.

Respondents: State, local or tribal government public institutions, and other not-for-profit institutions.

Number of Respondents and Responses: 82,000 respondents; 82,000 responses.

Estimated Time per Response: 3.5 hours for FCC Form 470 (3 hours for response; 0.5 hours for recordkeeping; 4.5 hours for FCC Form 471 (4 hours for response; 0.5 hours for recordkeeping).

Frequency of Response: On occasion and annual reporting requirements, and recordkeeping requirement.

Obligation to Respond: Required to obtain or retain benefits. Statutory authority for this information collection is contained in 47 U.S.C. 151-154, 201-205, 218-220, 254, 303(r), 403, and 405.

Total Annual Burden: 334,000 hours.

Total Annual Cost: N/A.

Privacy Act Impact Assessment: No impact(s).

Nature and Extent of Confidentiality: There is no assurance of confidentiality provided to respondents concerning this information collection. However, respondents may request materials or information submitted to the Commission or to the Administrator be withheld from public inspection under 47 CFR 0.459 of the FCC's rules.

Needs and Uses: The FCC Form 470 is used by applicants to seek competitive bids on eligible services from service providers. The Commission revised OMB 3060-0806 to conform the FCC Form 470 to changes implemented in the Second E-Rate Modernization Order (WC Docket No. 13-184, FCC 14-189; 80 FR 5961, February 4, 2015).

Federal Communications Commission.
Gloria J. Miles,
Federal Register Liaison Officer.

[FR Doc. 2015-15972 Filed 6-29-15; 8:45 am]

BILLING CODE 6712-01-P